DEPARTMENT OF COMMERCE

National Oceanic and Atmospheric Administration

[I.D. 040402C]

Fisheries of the Caribbean, Gulf of Mexico, and South Atlantic; Spiny Lobster, Coastal Migratory Pelagic Resources, and Snapper-Grouper Fisheries of the South Atlantic; Exempted Fishing Permit

AGENCY: National Marine Fisheries Service (NMFS), National Oceanic and Atmospheric Administration (NOAA), Commerce.

ACTION: Issuance of an exempted fishing permit.

SUMMARY: NMFS announces the issuance of an exempted fishing permit (EFP) for the University of Georgia's Marine Education Center and Aquarium (MECA)(applicant), located on Skidaway Island, GA. The EFP authorizes the applicant, with certain conditions, to collect up to 200 juvenile (undersized) individuals in the snapper-grouper fishery and coastal migratory pelagics fishery annually for public display purposes. Less than 10 non-egg-bearing spiny or slipper lobster also would be collected on each cruise. Two cruises will be made annually in Federal waters off Georgia. Specimens will be displayed at MECA, which is located on Skidaway Island, near Savannah, GA.

DATES: The newly issued EFP is effective July 1, 2002, through June 30, 2004.

ADDRESSES: Copies of the EFP are available from Peter Eldridge, Southeast Regional Office, NMFS, 9721 Executive Center Drive N., St. Petersburg, FL 33702.

FOR FURTHER INFORMATION CONTACT: Peter Eldridge, 727-570-5305; fax: 727-570-5583; e-mail: peter.eldridge@noaa.gov.

SUPPLEMENTARY INFORMATION: The EFP is issued under the authority of the Magnuson-Stevens Fishery Conservation and Management Act (16 U.S.C. 1801 et seq.), and regulations at 50 CFR 600.745(b) concerning exempted fishing.

The EFP authorizes the applicant, with certain conditions, to collect up to 200 juvenile (undersized) individuals in the snapper-grouper and coastal migratory pelagics fisheries annually for public display purposes. Less than 10 non-egg-bearing spiny or slipper lobster also would be collected on each cruise. Two cruises will be made annually in Federal waters off Georgia during the period July 1, 2002, through June 30, 2004.

The applicant, MECA, located at Skidaway Island, is a public, non-profit, educational institution established to promote an awareness, understanding, and appreciation of the diverse natural resources associated with Georgia's ocean, estuaries, rivers, streams, and other aquatic environments.

MECA provides a variety of education programs--short academic classes and summer science camps for school children, classes for college students and teachers, and programs for visiting adult groups. The saltwater aquarium exhibits local marine fishes and invertebrates, and is used as an educational tool in these program.

The proposed collection for public display involves activities otherwise prohibited by regulations implementing the Fishery Management Plan (FMP) for the Snapper-Grouper Fisheries of the South Atlantic Region, the FMP for the Coastal Migratory Pelagic Resources (Mackerels), and the FMP for the Spiny Lobster Fishery of the Gulf of Mexico and South Atlantic. The applicant requires authorization to harvest and possess juvenile mackerels, snapper-grouper species, and spiny lobster taken from Federal waters off Georgia.

The EFP has a number of conditions concerning the harvest of prohibited species and corals, the gear that can be employed, and bycatch restrictions. The EFP requires an annual report to NMFS that lists taken specimens.

A notice of receipt of the application for this permit was published in the Federal Register on April 11, 2002 (67 FR 17673). The notice included a request for public comments. No public comments were received. Also, consistent with the requirements of 50 CFR 600.745(b)(3)(i), NMFS provided copies of the EFP to the State of Georgia, the South Atlantic Fishery Management Council, and the U.S. Coast Guard along with information on the EFP's effect on target species. All of the consulted entities supported the issuance of the EFP.

Failure of the permittee to comply with the terms and conditions of the EFP may be grounds for revocation, suspension, or modification of this permit, as well as civil or criminal sanctions.

Authority: 16 U.S.C. 1801 et seq.

Dated: July 11, 2002.
Virginia M. Fay,
Acting Director, Office of Sustainable Fisheries, National Marine Fisheries Service.

[FR Doc. 02-18152 Filed 7-17-02; 8:45 am]

BILLING CODE 3510-22-S